DEPARTMENT OF ENERGY

Federal Energy Regulatory Commission

[Project No. 14865-000]

Watterra Energy, LLC; Notice of Preliminary Permit Application Accepted for Filing and Soliciting Comments, Motions To Intervene, and Competing Applications

On November 29, 2017, Watterra Energy, LLC, filed an application for a preliminary permit, pursuant to section 4(f) of the Federal Power Act (FPA), proposing to study the feasibility of the Sutton Dam Hydroelectric Project to be located at the U.S. Army Corps of Engineers' (Corps) Sutton Dam, on the Elk River, in Sutton, Braxton County, West Virginia. The sole purpose of a preliminary permit, if issued, is to grant the permit holder priority to file a license application during the permit term. A preliminary permit does not authorize the permit holder to perform any land-disturbing activities or otherwise enter upon lands or waters owned by others without the owners' express permission.

The proposed project would consist of the following: (1) A new 70-foot-long, 55-foot-wide powerhouse containing three turbine-generator units with a total rated capacity of 14 megawatts; (2) a new multiple-port intake structure to be located at the upstream face of the Sutton dam; (3) a new 300-foot-long, 15-foot-diameter steel penstock; (4) a new 50-foot-long, 50-foot-wide switchyard; (5) a new 13.8-kilovolt, 500-foot-long transmission line; and (6) appurtenant facilities. The proposed project would have an annual generation of 47,200 megawatt-hours.

Applicant Contact: Craig Dalton, Watterra Energy, LLC, 220 West Main Street, Hamilton, MT 59840; phone: 406-384-0080.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14865-000.

More information about this project, including a copy of the application, can be viewed or printed on the “eLibrary” link of the Commission's website at http://www.ferc.gov/docs-filing/elibrary.asp. Enter the docket number (P-14865) in the docket number field to access the document. For assistance, contact FERC Online Support.

Dated: January 30, 2018.
Kimberly D. Bose,
Secretary.

[FR Doc. 2018-02242 Filed 2-2-18; 8:45 am]

BILLING CODE 6717-01-P